DEPARTMENT OF AGRICULTURE

Forest Service

Interim Direction for Commercial Filming and Still Photography Activities on National Forest System Lands

AGENCY: Forest Service, USDA.

ACTION: Notice of issuance of agency interim directives.

SUMMARY: The Forest Service is issuing interim directives to guide its employees in the permitting and administration of authorizations and the collection of land use fees for commercial filming and still photography on National Forest System lands. These interim directives make Forest Service policy and procedures in Forest Service Manual chapter 2720 and in Forest Service Handbook 2709.11, chapter 30, consistent with the provisions of the Act of May 26, 2000, which provides authority for the Secretary of the Interior and the Secretary of Agriculture to authorize and set conditions on the use of Federal lands for commercial filming and still photography and to establish, retain, and spend without further appropriation land use fees collected for those uses. A primary purpose of the act is to promote consistent permitting and land use fee practices among the Federal land management agencies.

DATES: These interim directives are effective February 6, 2003.

ADDRESSES: These interim directives (ID 2700-2003-1 and ID 2709.11-2003-2) are available electronically from the Forest Service via the World Wide Web/Internet at http://www.fs.fed.us/im/directives. Single paper copies of the IDs are also available by contacting Melissa Hearst, Lands Staff (Mail Stop 1124), Forest Service, 1400 Independence Avenue, SW., Washington, DC 20250-1124 (telephone 202-205-1196).

FOR FURTHER INFORMATION CONTACT: Melissa Hearst, Lands Staff (202-205-1196).

SUPPLEMENTARY INFORMATION: The Forest Service is issuing interim directives (IDs) to Forest Service Manual (FSM) chapter 2720 and Forest Service Handbook (FSH) 2709.11, chapter 30 to guide its employees in the permitting and administration of authorizations and the collection of land use fees for commercial filming and still photography consistent with the provisions of the Act of May 26, 2000 (16 U.S.C. 460l-6d).

Prior to this act, the Forest Service's authority to issue permits for commercial filming and still photography and to collect land use fees for these uses was the Organic Act of 1897 (16 U.S.C. 551) and implementing regulations at title 36, Code of Federal Regulations, part 251, subpart B. Legislative history for the Act of May 26, 2000, states that the act is intended to supplement the Forest Service's existing authorities to regulate commercial filming and still photography.

The interim directive to FSM 2720 provides a definition for “commercial filming” that establishes the types of filming activities for which a special use permit is required. This definition specifically excludes “breaking news” as an activity for which a special use permit is required, because the need for commercial filming and still photography to cover breaking news arises suddenly, may evolve quickly, and may cease to be newsworthy by the time a permit is issued. The ID also sets out definitions of other terms common to commercial filming and still photography. A clear understanding of these definitions is essential so that agency personnel can correctly determine under what situation or condition a special use permit is required.

The Act of May 26, 2000, also provides the Forest Service with the authority to collect, retain, and spend without further appropriation the land use fees collected for commercial filming and still photography. The ID to FSH 2709.11, chapter 30, instructs agency personnel to continue to use current Regional and Forest fee schedules established for these activities and provides direction for the accounting and expenditure of these funds.

The interim directive to FSM 2720 is issued as ID number 2700-2003-1 and the interim directive to FSH 2709.11, chapter 30, is issued as ID number 2709.11-2003-2.

Dated: January 30, 2003.
Sally Collins,
Associate Chief.

[FR Doc. 03-2968 Filed 2-5-03; 8:45 am]

BILLING CODE 3410-11-P